DEPARTMENT OF COMMERCE

National Oceanic and Atmospheric Administration

50 CFR Part 300

RTID 0648-XF365

Fraser River Panel Salmon Fisheries; Inseason Orders

AGENCY: National Marine Fisheries Service (NMFS), National Oceanic and Atmospheric Administration (NOAA), Commerce.

ACTION: Temporary rule; inseason orders.

SUMMARY: NMFS publishes inseason orders to regulate treaty tribal and non-tribal (all citizen) commercial salmon fisheries in United States (U.S.) waters of the Fraser River Panel (Panel) Area. In 2025, eight orders were issued by the Panel of the Pacific Salmon Commission (Commission) and approved and issued by NMFS for fisheries within the U.S. Panel Area. These orders established fishing dates, times, and areas for the gear types of U.S. treaty tribal and all citizen commercial fisheries during the period the Panel exercised jurisdiction over these fisheries.

DATES: The effective dates for the inseason order are set out in this document under the heading Inseason Orders.

FOR FURTHER INFORMATION CONTACT: Anthony Siniscal at 916-599-9550, email: Anthony.siniscal@noaa.gov.

SUPPLEMENTARY INFORMATION: The Treaty between the Government of the United States of America and the Government of Canada concerning Pacific salmon was signed at Ottawa on January 28, 1985, and subsequently was given effect in the United States by the Pacific Salmon Treaty Act (Act) at 16 U.S.C. 3631-3644. Article VI and Chapter 4 of Annex IV of the Treaty address fisheries for Fraser River sockeye and pink salmon. Article VI describes the framework for annual management of these fisheries, and Chapter 4 of Annex IV sets forth the agreement of the parties regarding the details of annual management.

Under authority of the Act and consistent with the provisions of the Treaty, Federal regulations at 50 CFR part 300, subpart F, describe a framework for the implementation of certain regulations of the Commission and inseason orders of the Commission's Panel for U.S. sockeye and pink salmon fisheries in the Panel Area.

The regulations close the U.S. portion of the Panel Area to U.S. sockeye and pink salmon tribal and non-tribal commercial fishing unless opened by Panel regulations that are given effect by inseason orders issued by NMFS (50 CFR 300.94(a)(1)). During the fishing season, NMFS may issue inseason orders that establish fishing times and areas consistent with the annual Commission fishing regime and inseason orders of the Panel. Such orders must be consistent with domestic legal obligations and are issued by the Regional Administrator, West Coast Region, NMFS. Official notification of these inseason actions is provided by two telephone hotline numbers described at 50 CFR 300.97(b)(1) and in 90 FR 20810 (May 16, 2025). The inseason orders are published in the Federal Register as soon as practicable after they are issued. Due to the frequency with which inseason orders are generally issued, publication of orders during the fishing season is impracticable.

Inseason Orders

NMFS issued the following inseason order for U.S. fisheries within Panel Area waters during the 2025 fishing season, consistent with the orders adopted by the Panel. Each inseason action was effective upon announcement on telephone hotline numbers as specified at 50 CFR 300.97(b)(1) and in 90 FR 20810 (May 16, 2025); the dates and times of each action are listed herein. The times listed are in Pacific Daylight Time (PDT) and the areas designated are Puget Sound Management and Catch Reporting Areas as defined in the Washington State Administrative Code at Chapter 220-301-030.

Fraser Panel Order Number 2025-01: Issued 1:30 p.m. PDT, August 5, 2025

Treaty Tribal Fishery

Areas 4B, 5, and 6C: Open for drift gillnet fishing 12 p.m. (noon), Thursday, August 7, 2025 through 12 p.m. (noon), Saturday, August 9, 2025.

Fraser River Panel Order Number 2025-02: Issued 2 p.m. PDT, August 8, 2025

Treaty Tribal Fishery

Areas 4B, 5, and 6C: Extend for drift gillnet fishing 12 p.m. (noon), Saturday, August 9, 2025 through 12 p.m. (noon), Wednesday, August 13, 2025.

Areas 6, 7, and 7A: Open for net fishing 5 a.m., Sunday, August 10, 2025 through 11:59 p.m., Monday, August 11, 2025.

All Citizen Fishery

Areas 7 and 7A: Open for purse seine fishing 5 a.m. through 9 p.m., Tuesday, August 12, 2025.

Areas 7 and 7A: Open for drift gillnet fishing 8 a.m. through 11:59 p.m., Tuesday, August 12, 2025.

Area 7: Open for reef net fishing 5 a.m. through 9 p.m., Monday, August 11, 2025 and 5 a.m. through 9 p.m., Tuesday, August 12, 2025.

Fraser River Panel Order Number 2025-03: Issued 3 p.m. PDT, August 12, 2025

Treaty Tribal Fishery

Areas 4B, 5, and 6C: Extend for drift gillnet fishing 12 p.m. (noon), Wednesday, August 13, 2025 through 12 p.m. (noon), Saturday, August 16, 2025.

All Citizen Fishery

Areas 7 and 7A: Open for purse seine fishing 5 a.m. through 9 p.m., Friday, August 15, 2025.

Areas 7 and 7A: Open for drift gillnet fishing 8 a.m. through 11:59 p.m., Friday, August 15, 2025.

Area 7: Open for reef net fishing 5 a.m. through 9 p.m., Friday, August 15, 2025.

Fraser River Panel Order Number 2025-04: Issued 2:45 p.m. PDT, August 15, 2025

Treaty Tribal Fishery

Areas 4B, 5, and 6C: Extend for drift gillnet fishing 12 p.m. (noon), Saturday, August 16, 2025 through 12 p.m. (noon), Wednesday, August 20, 2025.

Areas 6, 7, and 7A: Open for net fishing 5 a.m., Sunday, August 17, 2025 through 11:59 p.m., Tuesday, August 19, 2025.

All Citizen Fishery

Areas 7 and 7A: Open for purse seine fishing 5 a.m. through 9 p.m., Tuesday, August 19, 2025.

Areas 7 and 7A: Open for drift gillnet fishing 8 a.m. through 11:59 p.m., Tuesday, August 19, 2025.

Area 7: Open for reef net fishing 5 a.m. through 9 p.m., Tuesday, August 19, 2025.

Fraser River Panel Order Number 2025-05: Issued 3:30 p.m. PDT, August 26, 2025

Treaty Tribal Fishery

Areas 4B, 5, and 6C: Open for drift gillnet fishing 12 p.m. (noon), Wednesday, August 27, 2025 through 12 p.m. (noon), Saturday, August 30, 2025. Sockeye may be retained for ceremonial and subsistence purposes only.

Areas 6, 7, and 7A in the area southerly and easterly of a straight line drawn from the Iwersen Dock on Point Roberts in the State of Washington to the Georgina Point Light at the entrance to Active Pass in the province of British Columbia: Open for net fishing 5 a.m., Wednesday, August 27, 2025 through 5 a.m., Thursday, August 28, 2025. Sockeye may be retained for ceremonial and subsistence purposes only.

All Citizen Fishery

Areas 7 and 7A in the area southerly and easterly of a straight line drawn from the Iwersen Dock on Point Roberts in the State of Washington to the Georgina Point Light at the entrance to Active Pass in the province of British Columbia: Open for purse seine fishing 5 a.m. through 9 p.m., Thursday, August 28, 2025. Sockeye must be released.

Areas 7 and 7A in the area southerly and easterly of a straight line drawn from the Iwersen Dock on Point Roberts in the State of Washington to the Georgina Point Light at the entrance to Active Pass in the province of British Columbia: Open for drift gillnet fishing 8 a.m. through 11:59 p.m., Thursday, August 28, 2025. Sockeye must be released.

Area 7: Open for reef net fishing 5 a.m. through 9 p.m., Thursday, August 28, 2025. Sockeye must be released.

Fraser River Panel Order Number 2025-06: Issued 1:45 p.m. PDT, September 2, 2025

Treaty Tribal Fishery

Areas 4B, 5, and 6C: Open for drift gillnet fishing 12 p.m. (noon), Wednesday, September 3, 2025 through 12 p.m. (noon), Saturday, September 6, 2025. Sockeye may be retained for ceremonial and subsistence purposes only.

Areas 6, 7, and 7A in the area southerly and easterly of a straight line drawn from the Iwersen Dock on Point Roberts in the State of Washington to the Georgina Point Light at the entrance to Active Pass in the province of British Columbia: Open for net fishing 5 a.m., Wednesday, September 3, 2025 through 9 p.m., Friday, September 5, 2025. Sockeye may be retained for ceremonial and subsistence purposes only.

All Citizen Fishery

Areas 7 and 7A in the area southerly and easterly of a straight line drawn from the Iwersen Dock on Point Roberts in the State of Washington to the Georgina Point Light at the entrance to Active Pass in the province of British Columbia: Open for purse seine fishing 5 a.m. through 9 p.m., Wednesday, September 3, 2025 and 5 a.m. through 9 p.m., Thursday, September 4, 2025. Sockeye must be released.

Areas 7 and 7A in the area southerly and easterly of a straight line drawn from the Iwersen Dock on Point Roberts in the State of Washington to the Georgina Point Light at the entrance to Active Pass in the province of British Columbia: Open for drift gillnet fishing 8 a.m. through 11:59 p.m., Wednesday, September 3, 2025 and 8 a.m. through 11:59 p.m., Thursday, September 4, 2025. Sockeye must be released.

Area 7: Open for reef net fishing 5 a.m. through 9 p.m., Wednesday, September 3, 2025 and 5 a.m. through 9 p.m., Thursday, September 4, 2025. Sockeye must be released.

Fraser River Panel Order Number 2025-07: Issued 1:15 p.m. PDT, September 5, 2025

Treaty Tribal Fishery

Areas 4B, 5, and 6C: Relinquish regulatory control effective 11:59 p.m., Sunday, September 7, 2025.

Fraser River Panel Order Number 2025-08: Issued 12 p.m. PDT, September 9, 2025

Treaty Tribal and All Citizen Fisheries

Areas 6, 7, and 7A, excluding the Apex: Relinquish regulatory control effective 11:59 p.m., Thursday, September 11, 2025. The Apex is those waters north and west of the Area 7A “East Point Line,” defined as a line projected from the low water range marker in Boundary Bay on the International Boundary through the east tip of Point Roberts in the state of Washington to the East Point Light on Saturna Island in the Province of British Columbia.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because of insufficient time between the time the stock abundance information is available to determine how much fishing can be allowed and the time the fishery must open or close in order to harvest the appropriate amount of fish while they are available. There is a heightened need to respond quickly to inseason information about the salmon fishery because the fish migrate quickly through the U.S. Panel Area and the composition of species or stocks changes rapidly. The amount of time to act effectively on the available stock information is short. By the time public notice and comment would be completed, the mix of species and stocks in the fishery would have changed such that in-season action would be ineffective. Therefore, NMFS determined that waiving notice and comment served the public interest.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: January 21, 2026.
Kelly Denit,
Director, Office of Sustainable Fisheries, National Marine Fisheries Service.

[FR Doc. 2026-01284 Filed 1-22-26; 8:45 am]

BILLING CODE 3510-22-P